DEPARTMENT OF THE INTERIOR

National Park Service

60-Day Notice of Intention To Request Clearance of Collection of Information; Opportunity for Public Comment

AGENCY: Department of the Interior, National Park Service.

ACTION: Notice and request for comments.

SUMMARY: Under the Paperwork Reduction Act of 1995 and 5 CFR Part 1320, Reporting and Record Keeping Requirements, the National Park Service (NPS) invites public comments on an extension of a currently approved collection of information (OMB No. 1024-0021).

DATES: Public comments on the proposed Information Collection Request (ICR) will be accepted on or before May 7, 2007.

ADDRESSES: Richard Merryman, National Capital Region, 1100 Ohio Dr., Rm. 128, SW., Washington, DC 20242. Phone: 202-619-7225, Fax: 202-401-2430. Also, you may send comments to Leonard Stowe, NPS Information Collection Clearance Officer, 1849 C St., NW. (2605), Washington, DC 20240, or by e-mail at Leonard_Stowe@nps.gov. All responses to this notice will be summarized and included in the request for the Office of Management and Budget (OMB) approval. All comments will become a matter of public record.

FOR FURTHER INFORMATION CONTACT: Richard Merryman, National Capital Region, 1100 Ohio Dr., Rm. 128, SW., Washington, DC 20242, via phone at 202/619-7225, or via fax at 202/401-2430, or via e-mail at Rick_Merryman@nps.gov. You are entitled to a copy of the entire ICR package free of charge.

SUPPLEMENTARY INFORMATION: Title: National Capital Region Application for Public Gathering, 36 CFR 7.96(g).

Departmental Form Number: None.

OMB Number: 1024-0021.

Expiration Date: 06/30/07.

Type of Request: Extension of a currently approved collection.

Description of Need: The information collection responds to the statutory requirement that the NPS preserve park resources and regulate the use of units of the National Park System. The information to be collected identifies: (1) Those individuals and/or organizations that wish to conduct a public gathering on NPS property in the National Capital Region, (2) the logistics of a proposed demonstration or special event that aid the NPS in regulating activities to insure that they are consistent with the NPS mission, (3) potential civil disobedience and traffic control issues for the assignment of United States Park Police personnel, and (4) circumstances which may warrant a bond to be assigned to the event for the purpose of covering potential cost to repair damage caused by the event.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be publicly available at any time. While you can ask in your comment to withhold your personal identifying information from public review, we cannot guarantee we will be able to do so.

Description of Respondents: Respondents are those individuals or organizations that wish to conduct a special event or demonstration on NPS properties within the National Capital Region that lie within the geographical limits set forth in 36 CFR 7.96(a).

Estimated average number of annual respondents: 2500.

Estimated average burden hours per response: 5 minutes.

Estimated annual reporting burden: 1250 hours.

Dated: February 6, 2007.
Leonard E. Stowe,
NPS Information Collection Clearance Officer.

[FR Doc. 07-1080 Filed 3-7-07; 8:45 am]

BILLING CODE 4312-JK-M